EXPORT-IMPORT BANK OF THE U.S.

[Public Notice 2015-3002]

Agency Information Collection Activities: Comment Request

AGENCY: Export-Import Bank of the U.S.

ACTION: Submission for OMB review and comments request.

Form Title: EIB 11-08, Application for Global Credit Express Revolving Line of Credit.

SUMMARY: The Export-Import Bank of the United States (Ex-Im Bank), as a part of its continuing effort to reduce paperwork and respondent burden, invites the general public and other Federal Agencies to comment on the proposed information collection, as required by the Paperwork Reduction Act of 1995.

The Application for Global Credit Express Revolving Line of Credit is used to determine the eligibility of the applicant and the transaction for Export-Import Bank assistance under its Working Capital Guarantee and Direct Loan Program. This form is used by small U.S. businesses with limited export experience. This program relies to a large extent on the exporter's qualifying score on the FICO (Fair Isaac Corporation) SBSS (Small Business Scoring Service). Therefore the financial and credit information needs are minimized. This is a request to renew an existing form. The only change is to enhance a question about company ownership so as to improve the quality of information derived from the question.

The form can be viewed at: http://www.exim.gov/pub/pending/EIB11-08-Final.pdf.

DATES: Comments should be received on or before June 25, 2015 to be assured of consideration.

ADDRESSES: Comments may be submitted electronically on http://www.regulations.gov (EIB:11-08) or by mail to Office of Information and Regulatory Affairs, 725 17th Street NW., Washington, DC 20038 Attn: OMB Number 3048-0038.

SUPPLEMENTARY INFORMATION:

Titles and Form Number: EIB 11-08, Application for Global Credit Express Revolving Line of Credit.

OMB Number: 3048-0038.

Type of Review: Regular.

Need and Use: The Application for Global Credit Express Revolving Line of Credit is used to determine the eligibility of the applicant and the transaction for Export-Import Bank assistance under its Working Capital Guarantee and Direct Loan Program.

Affected Public: This form affects entities involved in the export of U.S. goods and services.

Annual Number of Respondents: 130.

Estimated Time per Respondent: 1.5 hours.

Annual Burden Hours: 195 hours.

Frequency of Reporting or Use: As needed.

Government Expenses:

Reviewing Time per Year: 195 hours.

Average Wages per Hour: $42.50.

Average Cost per Year: $8,287.5 (time*wages).

Benefits and Overhead: 20%.

Total Government Cost: $9,945.

Bonita Jones-McNeil,
Records Management Division, Office of the Chief Information Officer.

[FR Doc. 2015-12518 Filed 5-22-15; 8:45 am]

BILLING CODE 6690-01-P